DEPARTMENT OF THE INTERIOR

National Park Service

Draft General Management Plan/Environmental Impact Statement, Chickasaw National Recreation Area, Oklahoma

AGENCY: National Park Service, Department of the Interior.

ACTION: Notice of Termination of the Environmental Impact Statement for the General Management Plan, Chickasaw National Recreation Area.

SUMMARY: The National Park Service (NPS) is terminating preparation of an Environmental Impact Statement (EIS) for the General Management Plan, Chickasaw National Recreation Area, Oklahoma. A Notice of Intent to prepare the EIS for the Chickasaw National Recreation Area General Management Plan was published in Vol. 67, No. 184, of the September 23, 2002, Federal Register (59530). The National Park Service has since determined that an Environmental Assessment (EA) rather than an EIS is the appropriate environmental documentation for the general management plan.

SUPPLEMENTARY INFORMATION: The general management plan will establish the overall direction for the national recreation area, setting broad management goals for managing the area over the next 15 to 20 years. The plan was originally scoped as an EIS. However, few public comments were received in the scoping process. Although several concerns were expressed during the public scoping process, particularly on the future of the recreation area's water resources, no issues were identified for the general management plan that have the potential for controversial impacts.

In the general management planning process the NPS planning team developed three alternatives for the national recreation area, none of which would result in substantial changes in the operation and management of the area. The two action alternatives primarily focus on maintaining and protecting resources, upgrading several existing visitor facilities, addressing park maintenance/operations needs, implementing selected treatments from the recreation area's recent cultural landscape report, and conducting several future studies. The preliminary impact analysis of the alternatives revealed no major (significant) effects on the human environment nor impairment of park resources and values. Most of the impacts to the recreation area's resources and values were negligible to minor in magnitude.

For these reasons the NPS determined the appropriate National Environmental Policy Act documentation for the general management plan is an EA.

DATES: The draft general management plan/EA is expected to be distributed for a 30 day public comment period in the summer/fall of 2006 and a decision is expected be made in the fall of 2006. The NPS will notify the public by mail, Web site, and other means, and will include information on where and how to obtain a copy of the EA, how to comment on the EA, and the length of the public comment period.

FOR FURTHER INFORMATION CONTACT: Connie Rudd, Superintendent, Chickasaw National Recreation Area; 1008 W. 2nd, Sulphur, OK 73086, telephone: (580) 622-2161, extension 1-200; e-mail: connie_rudd@nps.gov.

Dated: January 5, 2006.
Michael D. Snyder,
Director, Intermountain Region.

[FR Doc. E6-1101 Filed 1-27-06; 8:45 am]

BILLING CODE 4310-70-P